FEDERAL COMMUNICATIONS COMMISSION

[Report No. 2463]

Petitions for Reconsideration and Clarification of Action in Rulemaking Proceedings

February 2, 2001.

Petitions for Reconsideration and Clarification have been filed in the Commission's rulemaking proceedings listed in this Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by February 27, 2001. See section 1.4(b)(1) of the Commission's rules (47 CFR 1.4(b)(1)). Replies to an opposition must be filed within 10 days after the time for filing oppositions have expired.

Subject: Federal-State Joint Board on Universal Service (CC Docket No. 96-45), Western Wireless Corporation Petition for Designation as an Eligible Telecommunications Carrier In the State of Wyoming.

Number of Petitions Filed: 2.

Subject: Federal-State Joint Board on Universal Service (CC Docket No. 96-45).

Number of Petitions Filed: 1.

Subject: Amendment of Section 73.202(b), FM Table of Allotments, FM Broadcast Stations. (Strattanville and Farmington Township, Pennsylvania) (MM Docket No. 99-58, RM-9461, RM-9611)

Number of Petitions Filed: 1.

Subject: Amendment of Section 73.202(b), Table of Allotments, FM Broadcast Stations (Alva, Mooreland, Tishomingo, Tuttle, and Woodward, Oklahoma) (MM Docket No. 98-155, RM-9082, RM-9133)

Number of Petitions Filed: 1.

Federal Communications Commission.
Magalie Roman Salas,
Secretary.

[FR Doc. 01-3517 Filed 2-9-01; 8:45 am]

BILLING CODE 6712-01-M